SECURITIES AND EXCHANGE COMMISSION

Sunshine Act; Meetings

Notice is hereby given, pursuant to the provisions of the Government in the Sunshine Act, Pub. L. 94-409, that the Securities and Exchange Commission will hold the following meetings during the week of September 15, 2003:

An Open Meeting will be held on Wednesday, September 17, 2003 at 2 p.m. in Room 6600, and Closed Meetings will be held on Wednesday, September 17, 2003 at 4 p.m. and Thursday, September 18, 2003 at 10 a.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (9)(B) and (10) and 17 CFR 200.402(a)(3), (5), (7), (9)(ii) and (10), permit consideration of the scheduled matters at the Closed Meetings.

The subject matter of the Open Meeting scheduled for Wednesday, September 17, 2003 will be:

1. The Commission will consider whether to propose for public comment new rules 12d1-1, 12d1-2, and 12d1-3 under the Investment Company Act of 1940. The recommended rules would broaden the ability of an investment company (“fund”) to acquire shares of another fund consistent with the protection of investors and the purposes of the Act. The Commission also will consider a recommendation to amend forms N-1A, N-2, N-3, N-4, and N-6, which are used by investment companies to register under the Investment Company Act and to offer their shares under the Securities Act of 1933. The recommended amendments would improve the transparency of the expenses of funds that invest in other funds by requiring that the expenses of the acquired funds be aggregated and shown as an additional expense in the fee table of the acquiring funds.

For further information, please contact Penelope Saltzman at (202) 942-0690.

2. The Commission will hear oral argument on an appeal of RichMark Capital Corporation, a registered broker-dealer, and Doyle Mark White, its 50% owner, from the decision of an administrative law judge.

The law judge found that respondents willfully violated the antifraud provisions of section 17(a) of the Securities Act of 1933, section 10(b) of the Securities Exchange Act of 1934, and Exchange Act Rule 10b-5. He suspended for 90 days RichMark's broker-dealer registration and White from association with any broker or dealer, assessed civil money penalties of $275,000 against RichMark and $55,000 against White, held RichMark and White jointly and severally liable for the disgorgement of $25,617.86 plus prejudgment interest, and imposed a cease-and-desist order.

Among the issues likely to be argued are:

a. Whether respondents made adequate disclosure to customers to whom they recommended and sold stock of PCC Group, Inc. (PCCG) that respondents were selling their own shares of PCCG at the same time;

b. Whether respondents made adequate disclosure to PCCG customers of respondents' financial incentive to sell PCCG stock arising from the compensation respondents received under an investment banking agreement between PCCG and RichMark; and

c. Whether sanctions should be imposed in the public interest.

For further information, contact the Office of the Secretary at (202) 942-7070.

3. The Commission will hear oral argument on an appeal by the Division of Enforcement from the decision of an administrative law judge dismissing proceedings against Robert J. Setteducati. The Division alleged that Setteducati, formerly executive vice president of H.J. Meyers & Co., Inc., a former registered broker-dealer, was part of an effort by the firm to manipulate the market for stock of Borealis Technology Corporation during 1996, in violation of antifraud provisions of the securities laws.

The law judge found that:

a. The market for Borealis had not been manipulated, and that

b. Even if the Borealis market had been manipulated, Setteducati's role in the Borealis offering and aftermarket trading was insufficient to hold him liable for any such misconduct.

Among the issues likely to be argued are:

a. Whether the evidence supports the Division's allegations; and

b. Whether and to what extent sanctions should be imposed in the public interest.

For further information, please contact the Office of the Secretary at (202) 942-7070.

The subject matter of the Closed Meeting scheduled for Wednesday, September 17, 2003 will be:

Post-argument discussion.

The subject matter of the Closed Meeting scheduled for Thursday, September 18, 2003 will be:

Institution and settlement of administrative proceedings of an enforcement nature;

Institution and settlement of injunctive actions; and

Formal orders of investigation.

At times, changes in Commission priorities require alterations in the scheduling of meeting items.

For further information and to ascertain what, if any, matters have been added, deleted, or postponed, please contact the Office of the Secretary at (202) 942-7070.

Dated: September 9, 2003.
Jonathan G. Katz,
Secretary.

[FR Doc. 03-23346 Filed 9-9-03; 3:53 pm]

BILLING CODE 8010-01-M